DEPARTMENT OF HOMELAND SECURITY

Coast Guard

33 CFR Part 117

[Docket No. USCG-2016-0130]

Drawbridge Operation Regulation; Atchafalaya River, Morgan City, LA

AGENCY: Coast Guard, DHS.

ACTION: Notice of temporary deviation from drawbridge regulation.

SUMMARY: The Coast Guard has issued a temporary deviation from the operating schedule that governs the Morgan City Railroad Bridge across the Atchafalaya River (also known as Berwick Bay), mile 17.5 [Gulf Intracoastal Waterway (Morgan City-Port Allen Alternate Route), mile 0.3] in Morgan City, St. Mary Parish, Louisiana. This deviation is necessary to perform maintenance needed for the operation of the bridge. This deviation allows for the bridge to remain closed-to-navigation for eight-consecutive hours in the morning and five-consecutive hours in the evening with an opening in the middle to pass vessels for a five-day period.

DATES: This deviation is effective from 11 a.m. on March 2 through 9 p.m. on March 6, 2016.

ADDRESSES: The docket for this deviation, [USCG-2016-0130] is available at http://www.regulations.gov. Type the docket number in the “SEARCH” box and click “SEARCH.” Click on Open Docket Folder on the line associated with this deviation.

FOR FURTHER INFORMATION CONTACT: If you have questions on this temporary deviation, call or email Donna Gagliano, Bridge Administration Branch, Coast Guard, telephone (504) 671-2128, email Donna.Gagliano@uscg.mil.

SUPPLEMENTARY INFORMATION: The BNSF Railway requested a temporary deviation from the operating schedule of the Morgan City Railroad Bridge. These repairs are necessary for the operation of the bridge. This deviation is to install new Conley joints on the four bases on the east and west ends of the bridges and transition rails on the east and west side of the bridge's north and south sides. The draw currently operates under 33 CFR 117.5.

For the purposes of this deviation, the bridge will not be required to open from 6 a.m. to 2 p.m. each day. From 2 p.m. until 4 p.m., the bridge will be opened for the passage of vessels. The bridge will again be closed-to-navigation from 4 p.m. to 9 p.m. From 9 p.m. until 6 a.m. the bridge will be maintained in the open position. The closure will begin at 11 a.m. on Wednesday, March 2, 2016 and continue through 9 p.m. on March 6, 2016.

The vertical clearance of the bridge is 4 feet above mean high water, elevation 8.2 feet NGVD in the closed-to-navigation position and 73 feet above mean high water in open-to-navigation position. Navigation on the waterway consists of tugs with tows, oil industry related work and crew boats, commercial fishing vessels and some recreational crafts.

Vessels able to pass the bridge in the closed position may do so at any time. The bridge will be able to open for emergencies and the Morgan City-Port Allen Landside route through Amelia, LA can be used as an alternate route. The Coast Guard will also inform the users of the waterways through our Local Notice to Mariners and Broadcast Notices to Mariners of the change in operating schedule for the bridge, so that vessel operators can arrange their transits to minimize any impact caused by the temporary deviation.

In accordance with 33 CFR 117.35, the drawbridge must return to its regular operating schedule immediately at the end of the effective period of this temporary deviation. This deviation from the operating regulations is authorized under 33 CFR 117.35.

Dated: February 19, 2016.
David M. Frank,
Bridge Administrator, Eighth Coast Guard District.

[FR Doc. 2016-03895 Filed 2-23-16; 8:45 am]

BILLING CODE 9110-04-P